OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between April 1, 2010 and April 30, 2010. These notices are published monthly in the Federal Register at http://www.gpoaccess.gov/fr/. A consolidated listing of all authorities as of June 30 is also published each year. The following Schedules are not codified in the Code of Federal Regulations. These are agency-specific exceptions.

Schedule A

No Schedule A authorities to report during April 2010.

Schedule B

No Schedule B authorities to report during April 2010.

Schedule C

The following Schedule C appointments were approved during April 2010.

Office of Management and Budget

BOGS10016 Special Projects Coordinator to the Associate Director, Strategic Planning and Communications. Effective April 5, 2010.

BOGS10015 Special Assistant to the Director, Office of Management and Budget. Effective April 15, 2010.

Office of the United States Trade Representative

TNGS08010 Deputy Assistant United States Trade Representative for Public and Media Affairs. Effective April 13, 2010.

Department of State

DSGS70033 Staff Assistant to the Director, Policy Planning Staff. Effective April 1, 2010.

DSGS70107 Assistant Chief of Protocol to the Chief of Protocol. Effective April 29, 2010.

Department of Defense

DDGS17277 Special Assistant for Acquisition Technology and Logistics of Defense Legislative Affairs. Effective April 15, 2010.

Department of the Army

DWGS10098 Special Assistant to the Assistant Secretary of the Army (Manpower and Reserve Affairs). Effective April 2, 2010.

DWGS10099 Special Assistant to the Assistant Secretary of the Army (Acquisition, Logistics and Technology). Effective April 5, 2010.

DWGS90096 Special Assistant to the Chief Management Officer to the Under Secretary of the Army. Effective April 14, 2010.

Department of the Air Force

DFGS60024 Special Assistant to the Assistant Secretary of the Air Force (Manpower and Reserve Affairs). Effective April 2, 2010.

Department of Justice

DJGS00441 Counsel to the Assistant Attorney General Tax Division. Effective April 9, 2010.

DJGS00601 Counsel to the Assistant Attorney General. Effective April 19, 2010.

DJGS00605 Chief of Staff, Office of Justice Programs. Effective April 27, 2010.

Department of Homeland Security

DMGS00013 Special Assistant to the Deputy Chief of Staff (Policy). Effective April 9, 2010.

DMGS00804 Advisor to the Assistant Secretary for Intergovernmental Affairs. Effective April 9, 2010.

Department of Agriculture

DAGS00101 Deputy White House Liaison to the White House Liaison. Effective April 1, 2010.

DAGS60600 Chief of Staff to the Under Secretary for Rural Development. Effective April 1, 2010.

DAGS60599 Minister Counselor of Agriculture for Farm and Foreign Agricultural Services. Effective April 14, 2010.

DAGS50602 Director, Correspondence Management for Administration. Effective April 19, 2010.

DAGS50609 Deputy Director of Scheduling to the Director of Communications. Effective April 23, 2010.

Department of Commerce

DCGS00598 Senior Director for Management and Performance to the Chief Financial Officer and Assistant Secretary for Administration. Effective April 15, 2010.

DCGS00431 Director of Scheduling to the Director of Scheduling and Advance. Effective April 16, 2010.

DCGS00289 Legislative Assistant to the Assistant Secretary for Legislative and Intergovernmental Affairs. Effective April 19, 2010.

DCGS00317 Deputy Director of Scheduling to the Director of Scheduling and Advance. Effective April 23, 2010.

DCGS00433 Director, National Export Initiative to the Under Secretary for International Trade. Effective April 26, 2010.

DCGS60312 Senior Advisor to the Chief of Staff to the Under Secretary, International Trade Administration. Effective April 28, 2010.

Department of Labor

DLGS60203 Special Assistant to the Senior Advisor for Communications and Public Affairs. Effective April 16, 2010.

DLGS60114 Special Assistant to the Senior Advisor for Communications and Public Affairs. Effective April 22, 2010.

DLGS60133 Chief of Staff to the Director of the Women's Bureau. Effective April 28, 2010.

DLGS60221 Speechwriter to the Senior Advisor for Communications and Public Affairs. Effective April 28, 2010.

Department of Health and Human Services

DHGS60120 Special Assistant to the Assistant Secretary for Preparedness and Response. Effective April 9, 2010.

DHGS60237 Regional Director, New York, Region II to the Director of Intergovernmental Affairs. Effective April 9, 2010.

DHGS60238 Regional Director, Boston, Massachusetts, Region I to the Director of Intergovernmental Affairs. Effective April 9, 2010.

DHGS60247 Regional Director Philadelphia Region III to the Director of Intergovernmental Affairs. Effective April 9, 2010.

DHGS60252 Regional Director, Denver, Colorado, Region VIII to the Director of Intergovernmental Affairs. Effective April 9, 2010.

DHGS60412 Regional Director, San Francisco, California, Region IX to the Director of Intergovernmental Affairs. Effective April 9, 2010.

DHGS60627 Confidential Assistant to the Administrator, Substance Abuse and Mental Health Services Administration. Effective April 9, 2010.

DHGS60470 Director of Policy Coverage (Office of Health Reform) to the Principal Deputy Assistant Secretary for Planning and Evaluation. Effective April 22, 2010.

DHGS60258 Deputy Director, Office of External Affairs to the Director. Effective April 29, 2010.

Department of Education

DBGS00320 Confidential Assistant to the Executive Director of the White House Initiative on Asian Americans and Pacific Islanders. Effective April 1, 2010.

DBGS00225 Confidential Assistant to the Press Secretary for Strategic Communications. Effective April 8, 2010.

DBGS00687 Senior Counsel to the Assistant Secretary for Civil Rights. Effective April 9, 2010.

DBGS00254 Deputy Director of the White House Initiative on Asian Americans and Pacific Islanders. Effective April 23, 2010.

DBGS00291 Special Assistant to the Director, Educational Technology. Effective April 30, 2010.

Securities and Exchange Commission

SEOT01090 Chief Operating Officer to the Chairman. Effective April 26, 2010.

SEOT60001 Confidential Assistant to the Chairman. Effective April 26, 2010.

Department of Energy

DEGS00805 Special Assistant to the Director, Office of Scheduling and Advance. Effective April 9, 2010.

DEGS00806 Special Assistant to the Director, Office of Scheduling and Advance. Effective April 13, 2010.

DEGS00807 Special Assistant to the Under Secretary for Nuclear Security/Administrator. Effective April 19, 2010.

DEGS00808 Senior Advisor and Director of New Media to the Director, Office of Public Affairs. Effective April 19, 2010.

DEGS00809 Congressional Affairs Specialist to the Director, Office of Congressional Affairs. Effective April 29, 2010.

Small Business Administration

SBGS00705 Policy Associate to the Deputy Assistant Administrator for Policy and Strategic Planning. Effective April 22, 2010.

SBGS00640 Regional Administrator (Region II) to the Associate Administrator for Field Operations. Effective April 30, 2010.

Export-Import Bank

EBGS10002 Counselor and Executive Secretary to the President and Chairman. Effective April 1, 2010.

EBGS10003 Speechwriter to the Senior Vice President, Communications. Effective April 20, 2010.

Department of Transportation

DTGS60277 Associate Administrator for Communications and Legislative Affairs. Effective April 1, 2010.

DTGS60358 Special Assistant to the Director of Scheduling and Advance. Effective April 5, 2010.

DTGS60129 Counselor to the General Counsel. Effective April 8, 2010.

Authority: 5 U.S.C. 3301 and 3302; E.O. 10577, 3 CFR 1954-1958 Comp., p. 218.

U.S. Office of Personnel Management.

John Berry,
Director.

[FR Doc. 2010-12135 Filed 5-19-10; 8:45 am]

BILLING CODE 6325-39-P